DEPARTMENT OF ENERGY

Federal Energy Regulatory Commission

[Docket No. RP00-329-004]

Great Lakes Gas Transmission Limited Partnership; Notice of Compliance Filing

June 10, 2003.

Take notice that on June 5, 2003, Great Lakes Gas Transmission Limited Partnership (Great Lakes) tendered for filing as part of its FERC Gas Tariff, Second Revised Volume No. 1, the tariff sheets listed on Appendix A to the filing, proposed to be effective June 1, 2003.

Great Lakes states that these tariff sheets are being filed in compliance with the Commission's May 6, 2003 Order on Compliance Filings relative to Order Nos. 637, 587-G, and 587-L in Docket Nos. RP00-329-002 and RP00-329-003 (May 6 Order), wherein the Commission accepted Great Lakes' proposed revisions, with some modifications. Great Lakes states that it was directed to file revised tariff sheets within thirty (30) days of the May 6 Order consistent with the modifications set forth in that Order.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 17, 2003.

Magalie R. Salas,
Secretary.

[FR Doc. 03-15177 Filed 6-16-03; 8:45 am]

BILLING CODE 6717-01-P